DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps.

Dates and Times: September 19, 2004, 12 p.m.-7 p.m.; September 20, 2004, 8:30 a.m.-5 p.m.; September 21, 2004, 9 a.m.-5:30 p.m.; September 22, 2004, 8 a.m.-10:30 a.m.

Place: Radisson Miyako Hotel, 1625 Post Street, San Francisco, California 94115-3603, (415) 922-3200.

Status: The meeting will be open to the public.

Agenda: The Council will be meeting in San Francisco, CA, in conjunction with the National Association of Community Health Care Centers. Members will have the opportunity to meet with community health care center administrators around issues of increased utilization of the National Health Service Corps programs and projections for workforce demands.

FOR FURTHER INFORMATION CONTACT: Tira Robinson-Patterson, Division of National Health Service Corps, Bureau of Health Professions, Health Resources and Services Administration, Parklawn Building, 5600 Fishers Lane, Room 8A-55, Rockville, MD 20857, telephone (301) 594-4140.

Dated: August 19, 2004.
Tina M. Cheatham,
Director, Division of Policy Review and Coordination.

[FR Doc. 04-19489 Filed 8-24-04; 8:45 am]

BILLING CODE 4165-15-P